DEPARTMENT OF LABOR

Office of the Secretary

Submission for OMB Review: Comment Request

September 15, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Storage and Handling of Anhydrous Ammonia (29 CFR 1910.111(b)(3) and (b)(4)).

OMB Number: 1218-0208.

Frequency: On occasion.

Type of Response: Recordkeeping and Third party disclosure.

Affected Public: Business or other for-profit; Not-for-profit institutions; Farms; Federal Government; and State, Local, or Tribal Government.

Number of Respondents: 2,030.

Number of Annual Responses: 2,030.

Estimated Time Per Response: 10 minutes.

Total Burden Hours: 345.

Total Annualized capital/startup costs: $0.

Total Annual Costs (operating/maintaining systems or purchasing services): $0.

Description: The information collection requirements contained in 29 CFR 1910.111(b)(3) and (b)(4) help ensure that employers use only properly designed and tested containers and systems to store anhydrous ammonia, thereby, preventing accidental release of, and exposure of employees to, this highly toxic and corrosive substance. In addition, these requirements provide the most efficient means for an OSHA compliance officer to ensure that the containers and systems are safe.

Agency: Occupational Safety and Health Administration.

Type of Review: Extension of currently approved collection.

Title: Regulations Containing Procedures for Handling of Discrimination Complaints.

OMB Number: 1218-0236.

Frequency: On occasion.

Type of Response: Reporting.

Affected Public: Individuals or households.

Number of Respondents: 368.

Number of Annual Responses: 368.

Estimated Time Per Response: 1 hour.

Total Burden Hours: 368.

Total Annualized capital/startup costs: $0.

Total Annual Costs (operating/maintaining systems or purchasing services): $0.

Description: Regulations at 29 CFR part 24, 29 CFR part 1979, 29 CFR part 1980, and 29 CFR part 1981 specify the procedures that an employee must use to file a complaint with OSHA alleging that their employer violated a “whistle blower” provision for which the Agency has investigative responsibility. Any employee who believes that such a violation occurred may file a compliant, or have the complaint filed on their behalf. While OSHA specifies no particular form for filing a complaint, these regulations require that a complaint must be in writing and should include a full statement of the acts and omissions, with pertinent dates, which are believed to constitute the alleged violation.

Ira L. Mills,
Departmental Clearance Officer.

[FR Doc. 04-21346 Filed 9-22-04; 8:45 am]

BILLING CODE 4510-26-P